POSTAL SERVICE BOARD OF GOVERNORS

Sunshine Act Meeting

Time and Dates: 1 p.m., Monday, January 8, 2001; 8:30 a.m., Tuesday, January 9, 2001.

Place: Washington, DC, at U.S. Postal Service Headquarters, 475 L'Enfant Plaza, SW., in the Benjamin Franklin Room.

Status: January 8 (Closed); January 9 (Open).

Matters to be Considered:

Monday, January 8—1:00 p.m. (Closed)

1. Business Initiative.

2. Financial Performance.

3. Strategic Planning.

4. Compensation Issues.

5. Personnel Matters.

Tuesday, January 9—8:30 a.m. (Open)

1. Minutes of the Previous Meetings, December 1, and December 4-5, 2000.

2. Remarks of the Postmaster General/Chief Executive Officer.

3. Consideration of Board Resolution on Capital Funding.

4. Annual Report on Government in the Sunshine Act Compliance.

5. Consideration of Fiscal Year 2000 Annual Report.

6. Quarterly Report on Financial Results.

7. Capital Investments.

a. Integrated Data System Upgrade.

b. Time and Attendance Collection System.

c. Standard Accounting for Retail Annual Report.

d. Postal Field Computing Infrastructure.

8. Election of Chairman and Vice Chairman of the Board of Governors.

9. Tentative Agenda for the February 5—6, 2001, meeting in San Antonio, Texas.

Contact Person for More Information: David G. Hunter, Secretary of the Board, U.S. Postal Service, 475 L'Enfant Plaza, SW., Washington, DC 20260-1000. Telephone (202) 268-4800.

David G. Hunter,
Secretary.

[FR Doc. 00-32839 Filed 12-20-00; 2:50 pm]

BILLING CODE 7710-12-M